DEPARTMENT OF HOMELAND SECURITY

Federal Emergency Management Agency

[Docket ID FEMA-2013-0002; Internal Agency Docket No. FEMA-B-1342]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before December 23, 2013.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1342, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community map repository address
Bartholomew County, Indiana, and Incorporated Areas
Maps Available for Inspection Online at: http://www.fema.gov/preliminaryfloodhazarddata
City of Columbus | Bartholomew County Planning Department, 123 Washington Street, Suite 8, Columbus, IN 47201.
Town of Edinburgh | Town Hall, 107 South Holland Street, Edinburgh, IN 46124.
Town of Hartsville | Town Hall, 290 West Jefferson Street, Hartsville, IN 47244.
Town of Hope | Town Hall, 404 Jackson Street, Hope, IN 47246.
Unincorporated Areas of Bartholomew County | Bartholomew County Planning Department, 123 Washington Street, Suite 8, Columbus, IN 47201.
Grant County, Indiana, and Incorporated Areas
Maps Available for Inspection Online at: http://www.fema.gov/preliminaryfloodhazarddata
City of Gas City | City Hall, 211 East Main Street, Gas City, IN 46933.
City of Jonesboro | Grant County Area Plan Commission, 401 South Adams Street, Marion, IN 46953.
City of Marion | City Hall, 301 South Branson Street, Marion, IN 46952.
Town of Fairmount | Grant County Area Plan Commission, 401 South Adams Street, Marion, IN 46953.
Town of Matthews | Grant County Area Plan Commission, 401 South Adams Street, Marion, IN 46953.
Town of Sweetser | Grant County Area Plan Commission, 401 South Adams Street, Marion, IN 46953.
Town of Upland | Grant County Area Plan Commission, 401 South Adams Street, Marion, IN 46953.
Town of Van Buren | Grant County Area Plan Commission, 401 South Adams Street, Marion, IN 46953.
Unincorporated Areas of Grant County | Grant County Area Planning Commission, 401 South Adams Street, Marion, IN 46953.
Jackson County, Indiana, and Incorporated Areas
Maps Available for Inspection Online at: http://www.fema.gov/preliminaryfloodhazarddata
City of Seymour | Department of Planning and Zoning, 301 North Chestnut Street, Seymour, IN 47274.
Town of Brownstown | Town Hall, 200 West Walnut Street, Brownstown, IN 47220.
Town of Crothersville | Town Hall, 111 East Howard Street, Crothersville, IN 47229.
Town of Medora | Town Hall, 27 North Perry Street, Medora, IN 47260.
Unincorporated Areas of Jackson County | Jackson County Courthouse, 111 South Main Street, Brownstown, IN 47220.
Saline County, Illinois, and Incorporated Areas
Maps Available for Inspection Online at: www.fema.gov/preliminaryfloodhazarddata
City of Eldorado | City Hall, 901 4th Street, Eldorado, IL 62930.
City of Harrisburg | City Hall, 110 East Locust Street, Harrisburg, IL 62946.
Unincorporated Areas of Saline County | County Courthouse, 10 East Poplar Street, Harrisburg, IL 62946.
Village of Muddy | Village Hall, 60 Maple Street, Muddy, IL 62965.
Floyd County, Iowa, and Incorporated Areas
Maps Available for Inspection Online at: http://www.fema.gov/preliminaryfloodhazarddata
City of Charles City | City Hall, 105 Milwaukee Mall, Charles City, IA 50616.
Unincorporated Areas of Floyd County | Floyd County Courthouse, 101 South Main Street, Suite 108, Charles City, IA 50616.
Woodbury County, Iowa, and Incorporated Areas
Maps Available for Inspection Online at: www.fema.gov/preliminaryfloodhazarddata
City of Sioux City | City Hall, 405 6th Street, Sioux City, IA 51102.
Unincorporated Areas of Woodbury County | Woodbury County Courthouse, Office of Planning and Zoning, 620 Douglas Street, Sioux City, IA 51101.
Arenac County, Michigan (All Jurisdictions)
Maps Available for Inspection Online at: www.fema.gov/preliminaryfloodhazarddata
City of Au Gres | City Hall, 124 West Huron Road, Au Gres, MI 48703.
City of Omer | City Hall, 201 East Center Street, Omer, MI 48749.
City of Standish | City Hall, 399 East Beaver Street, Standish, MI 48658.
Township of Arenac | Township Office, 2596 State Road, Standish, MI 48658.
Township of Au Gres | Township Office, 1865 Swenson Road, Au Gres, MI 48703.
Township of Clayton | Township Office, 1057 Dobler Road, Sterling, MI 48659.
Township of Deep River | Township Office, 525 East State Street, Sterling, MI 48659.
Township of Lincoln | Township Office, 5173 Johnsfield Road, Standish, MI 48658.
Township of Mason | Township Office, 1225 West Maple Ridge Road, Twining, MI 48766.
Township of Moffatt | Township Office, 7842 Newberry Street, Alger, MI 48610.
Township of Sims | Township Office, 4489 East Huron Road, Au Gres, MI 48703.
Township of Standish | Township Hall, 4997 Arenac State Road, Standish, MI 48658.
Township of Turner | Township Office, 110 Park Street, Twining, MI 48766.
Township of Whitney | Township Office, 1515 North Huron Road, Tawas City, MI 48763.
Village of Turner | Town Hall, 109 West Main Street, Turner, MI 48765.
Chippewa County, Michigan (All Jurisdictions)
Maps Available for Inspection Online at: http://www.fema.gov/preliminaryfloodhazarddata
Bay Mills Indian Community | Bay Mills Indian Community Tribal Office, 12140 West Lakeshore Drive, Brimley, MI 49715.
Charter Township of Kinross | Kinross Charter Township Hall, 4884 West Curtis Street, Kincheloe, MI 49788.
City of Sault Sainte Marie | City Hall, 225 East Portage Avenue, Sault Sainte Marie, MI 49783.
Township of Bay Mills | Bay Mills Township Hall, 14740 West Lakeshore Drive, Brimley, MI 49715.
Township of Bruce | Bruce Township Hall, 3156 East 12 Mile Road, Dafter, MI 49724.
Township of Dafter | Township of Dafter Map Repository, 10184 South Wilson Drive, Dafter, MI 49724.
Township of De Tour | Municipal Offices, 260 South Superior Street, De Tour Village, MI 49725.
Township of Drummond Island | Township Hall, 29935 East Pine Street, Drummond Island, MI 49726.
Township of Hulbert | Township Hall, 37685 West 4th Street, Hulbert, MI 49748.
Township of Pickford | Township Hall, 155 East Main Street, Pickford, MI 49774.
Township of Raber | Raber Township Community Building, 16315 East M-48, Goetzville, MI 49736.
Township of Soo | Soo Township Hall, 639 3 1/2 Mile Road, Sault Sainte Marie, MI 49783.
Township of Sugar Island | Sugar Island Community Center, 6401 East 1 1/2 Mile Road, Sault Sainte Marie, MI 49783.
Township of Superior | Superior Township Hall, 7049 South M-221, Brimley, MI 49715.
Township of Whitefish | Whitefish Township Hall, 7052 North M-123, Paradise, MI 49768.
Village of De Tour | Village Hall, 260 South Superior Street, De Tour Village, MI 49725.
Erie County, Ohio, and Incorporated Areas
Maps Available for Inspection Online at: www.starr-team.com/starr/RegionalWorkspaces/RegionV/ErieOH
City of Huron | 1820 Bogart Road, Huron, OH 44839.
City of Sandusky | 222 Meigs Street, Sandusky, OH 44870.
Unincorporated Areas of Erie County | Erie Regional Planning Commission, 2900 Columbus Avenue, Sandusky, OH 44870.
Village of Berlin Heights | 8 West Main Street, Berlin Heights, OH 44814.
Village of Milan | 11 South Main Street, Milan, OH 44846.
Little Scioto-Tygarts Watershed
Lawrence County, Ohio, and Incorporated Areas
Maps Available for Inspection Online at: www.fema.gov/preliminaryfloodhazarddata
Unincorporated Areas of Lawrence County | 111 South 4th Street, Ironton, OH 45638.
Village of South Point | 408 2nd Street West, South Point, OH 45680.
Upper Great Miami, Indiana, Ohio Watershed
Shelby County, Ohio, and Incorporated Areas
Maps Available for Inspection Online at: www.fema.gov/preliminaryfloodhazarddata
City of Sidney | 201 West Poplar Street, Sidney, OH 45365.
Unincorporated Areas of Shelby County | 129 East Court Street, Floor 2, Sidney, OH 45365.
Village of Anna | 209 West Main Street, Anna, OH 45302.
Village of Botkins | 210 South Mill Street, Botkins, OH 45306.
Village of Fort Loramie | 14 Elm Street, Fort Loramie, OH 45845.
Village of Jackson Center | 122 East Pike Street, Jackson Center, OH 45334.
Village of Lockington | 129 East Court Street, Floor 2, Sidney, OH 45365.
Village of Port Jefferson | 129 East Court Street, Floor 2, Sidney, OH 45365.
Village of Russia | 232 West Main Street, Russia, OH 45363.
Waukesha County, Wisconsin, and Incorporated Areas
Maps Available for Inspection Online at: www.fema.gov/preliminaryfloodhazarddata
City of Delafield | City Hall, 500 Genesee Street, Delafield, WI 53018.
City of Oconomowoc | City Hall, 174 East Wisconsin Avenue, Oconomowoc, WI 53066.
Unincorporated Areas of Waukesha County | Waukesha County Administration Center, 515 West Moorland Boulevard, Waukesha, WI 53188.
Village of Chenequa | Village Hall, 31275 West Highway K, Chenequa, WI 53029.
Village of Dousman | Village Hall, 118 South Main Street, Dousman, WI 53118.
Village of Hartland | Village Hall, 210 Cottonwood Avenue, Hartland, WI 53029.
Village of Lac La Belle | Village Hall, 600 Lac La Belle Drive, Lac La Belle, WI 53066.
Village of Merton | Village Hall, N67W28343 Sussex Road, Merton, WI 53056.
Village of Nashotah | Village Hall, N44W32950 Watertown Plank Road, Nashotah, WI 53058.
Village of Oconomowoc Lake | Village Hall, 35328 West Pabst Road, Oconomowoc Lake, WI 53066.
Village of Summit | Village Hall, 2911 North Dousman Road, Oconomowoc, WI 53066.

(Catalog of Federal Domestic Assistance No. 97.022, “Flood Insurance.”)

Dated: August 30, 2013.
Roy E. Wright,
Deputy Associate Administrator for Mitigation, Department of Homeland Security, Federal Emergency Management Agency.

[FR Doc. 2013-23068 Filed 9-20-13; 8:45 am]

BILLING CODE 9110-12-P